DEPARTMENT OF ENERGY

Federal Energy Regulatory Commission

[Docket No. RP98-104-004]

Williston Basin Interstate Pipeline Company; Notice of Pooling Report

February 2, 2000.

Take notice that on January 24, 2000, Williston Basin Interstate Pipeline Company (Williston Basin), filed a Report of Pooling Activity pursuant to a Letter Order dated January 7, 1999 regarding the above-captioned proceeding.

Williston Basin stated that it is complying with the Letter Order by submitting its report of pooling and nomination aggregation activity for the first year of pooling service.

Any person desiring to protest said filing should file a protest with the Federal Energy Regulatory Commission, 888 First Street, NE, Washington, DC 20426, in accordance with Section 385.211 of the Commission's Rules and Regulations. All such protests must be filed on or before February 9, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2787 Filed 2-7-00; 8:45 am]

BILLING CODE 6717-01-M